DEPARTMENT OF ENERGY

[Docket No. 20-31-LNG]

Epcilon LNG LLC; Request for Extension of Export Commencement Deadline

AGENCY: Office of Fossil Energy and Carbon Management, Department of Energy.

ACTION: Notice of request.

SUMMARY: The Office of Fossil Energy and Carbon Management (FECM) (formerly the Office of Fossil Energy (FE)) of the Department of Energy (DOE) gives notice (Notice) of receipt of a request (Request), filed on December 15, 2025, by Epcilon LNG LLC (Epcilon). Epcilon asks DOE to amend its existing authorization to re-export U.S.-sourced natural gas in the form of liquefied natural gas (LNG) from the proposed Amigo LNG export terminal project (Project), to be located in Guaymas, Sonora, Mexico, to non-free trade agreement countries set forth in DOE/FE Order No. 4629 (as amended)—specifically, to extend its current export commencement deadline. Epcilon filed the Request under the Natural Gas Act (NGA).

DATES: Protests, motions to intervene, or notices of intervention, as applicable, and written comments are to be filed electronically as detailed in the Public Comment Procedures section no later than 4:30 p.m., Eastern time, January 22, 2026.

ADDRESSES:

Electronic Filing by email (Strongly encouraged): fergas@hq.doe.gov.

Postal Mail, Hand Delivery, or Private Delivery Services (e.g., FedEx, UPS, etc.), U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34) Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76) Office of the Assistant General Counsel for Energy Delivery and Resilience, Forrestal Building, Room 6D-033, 1000 Independence Avenue SW, Washington, DC 20585, (240) 780-1691, cassandra.bernstein@hq.doe.gov.

SUPPLEMENTARY INFORMATION: On December 8, 2020, in Order No. 4629, as amended (and as relevant here),¹ DOE authorized Epcilon to re-export U.S.-sourced natural gas in the form of LNG in a volume equivalent to 395 billion cubic feet (Bcf) per year (Bcf/yr) of natural gas by vessel from the proposed Project, to be located in the State of Sonora, Mexico, to any country with which the United States has not entered into a free trade agreement (FTA) requiring national treatment for trade in natural gas, and with which trade is not prohibited by U.S. law or policy (non-FTA countries), pursuant to NGA section 3(a).² Epcilon is authorized to re-export this LNG for a term of 20 years.³

¹ Epcilon LNG LLC, DOE/FE Order No. 4629, Docket No. 20-31-LNG, Opinion and Order Granting Long-Term Authorization to Export Natural Gas to Mexico for Liquefaction, and to Re-Export U.S.-Sourced Natural Gas in the Form of Liquefied Natural Gas from Mexico to Free Trade Agreement and Non-Free Trade Agreement Countries (Dec. 8, 2020), amended by DOE/FE Order No. 4629-A (May 6, 2021) (amending order to correct monthly reporting obligations).

² 15 U.S.C. 717b(a).

³ See Epcilon LNG LLC, DOE/FE Order No. 4629, at 55 (Ordering Para. A).

Under Order No. 4629, Epcilon is required to “commence . . . re-export operations using the planned LNG Facility no later than seven years from the date of issuance of this Order”—i.e., by December 8, 2027.⁴ In the Request, Epcilon asks DOE to grant a 24-month extension of the export commencement deadline set forth in Order No. 4629, thus “extending the current deadline from December 8, 2027 to December 8, 2029.” ⁵

⁴ Id. at 56 (Ordering Para. F).

⁵ Epcilon LNG LLC, Request for Amendment of Long-Term Authorizations to Export Liquefied Natural Gas to FTA and Non-FTA Countries and for Extension of Time to Commence Exports, Docket No. 20-31-LNG, at 6 (Dec. 15, 2025) [hereinafter Request]; see also id. at 1-2, 9. The Request also applies to Epcilon's FTA authorization in the same docket, but DOE will address the FTA portion of the Application separately pursuant to NGA section 3(c), 15 U.S.C. 717b(c).

In support of this Request, Epcilon states that it “continues to make substantial progress in advancing the project, but [that] in the past, it has encountered significant and unforeseen delays due to global macroeconomic and geopolitical disruptions.” ⁶ Epcilon asserts that these delays have been fully resolved, and Epcilon “intends to take FID (Final Investment Decision) in early Q1 2026” for the Project.⁷ Therefore, according to Epcilon, the requested commencement extension will enable the Project to reach FID and proceed to the construction phase.⁸ Epcilon adds that the Request is limited solely to an extension of time and does not seek any modification to the scope, configuration, or nature of the Project.⁹

⁶ Request at 1.

⁷ Id.

⁸ Id. at 9.

⁹ Id. Epcilon also requests that DOE amend its authorization “to reflect the updated project development and construction schedule.” Request at 6.

Additional details can be found in the Request, posted on the DOE website at https://www.energy.gov/sites/default/files/2025-12/Epcilon%20LNG%20LLC%20%28FE%20DOCKET%20NO%20%2020_31_LNG%29%20Request%20for%20Extension%2012122025%20%28003%29.pdf.

DOE Evaluation

In reviewing the Request, DOE will consider any issues required by law or policy under NGA section 3(a), DOE's regulations, and any other documents deemed appropriate.

Parties that may oppose the Request should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable, addressing the Request. Interested parties will be provided 30 days from the date of publication of this Notice in the Federal Register in which to submit comments, protests, motions to intervene, or notices of intervention. The public previously was given an opportunity to intervene in, protest, and comment on Epcilon's long-term non-FTA application in this docket. Therefore, DOE will not consider comments or protests that do not bear directly on this Request.

Any person wishing to become a party to this proceeding evaluating Epcilon's Request must file a motion to intervene or notice of intervention.¹⁰ The filing of comments or a protest with respect to the Request will not serve to make the commenter or protestant a party to this proceeding, although protests and comments received from persons who are not parties will be considered in determining the appropriate action to be taken on the Request. All protests, comments, motions to intervene, or notices of intervention must meet the requirements specified by DOE's regulations in 10 CFR part 590, including the service requirements.

¹⁰ Status as an intervenor in prior proceeding(s) in this docket does not continue to this proceeding evaluating Epcilon's Request, and therefore any person interested in intervening to address the Request must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 20-31-LNG” or “Epcilon Request for Extension” in the title line. Filings must be submitted in English to be considered.¹¹

¹¹ Executive Order 14224 of March 1, 2025, Designating English as the Official Language of the United States, 90 FR 11363 (Mar. 6, 2025).

For electronic submissions: Please include all related documents and attachments (e.g., exhibits) in the original email correspondence. Please do not include any active hyperlinks or password protection in any of the documents or attachments related to the filing. All electronic filings submitted to DOE must follow these guidelines to ensure that all documents are filed in a timely manner.

The Request, and any filed protests, motions to intervene, notices of intervention, and comments will be available electronically on the DOE website at www.energy.gov/fecm/regulation.

A decisional record on the Request will be developed through responses to this Notice by parties, including the parties' written comments and replies thereto. Additional procedures will be used as necessary to achieve a complete understanding of the facts and issues. If an additional procedure is scheduled, notice will be provided to all parties. If no party requests additional procedures, a final Order may be issued based on the official record, including the Request and responses filed by parties pursuant to this Notice, in accordance with 10 CFR 590.316.

Signed in Washington, DC, on December 18, 2025.
Amy Sweeney,
Director, Office of Regulation, Analysis, and Engagement, Office of Resource Sustainability.

[FR Doc. 2025-23764 Filed 12-22-25; 8:45 am]

BILLING CODE 6450-01-P